DEPARTMENT OF TRANSPORTATION

Federal Motor Carrier Safety Administration

[Docket No. FMCSA-2010-0354]

Qualification of Drivers; Exemption Applications; Vision

AGENCY: Federal Motor Carrier Safety Administration (FMCSA), DOT.

ACTION: Notice of applications for exemptions; request for comments.

SUMMARY: FMCSA announces receipt of applications from 46 individuals for exemption from the vision requirement in the Federal Motor Carrier Safety Regulations. If granted, the exemptions would enable these individuals to qualify as drivers of commercial motor vehicles (CMVs) in interstate commerce without meeting the Federal vision standard.

DATES: Comments must be received on or before December 27, 2010.

ADDRESSES: You may submit comments bearing the Federal Docket Management System (FDMS) Docket No. FMCSA-2010-0354 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 46 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Charles H. Akers, Jr.

Mr. Akers, age 59, has had complete loss of vision in his right eye since 1974 due to trauma. The best corrected visual acuity in his left eye is 20/20. Following an examination in 2010, his optometrist noted, “It is my opinion that he has sufficient vision to safely perform the driving tasks required to operate a commercial vehicle without restrictions.” Mr. Akers reported that he has driven straight trucks for 38 years, accumulating 152,000 miles and tractor-trailer combinations for 38 years, accumulating 456,000 miles. He holds a Class A Commercial Driver's License (CDL) from Virginia. His driving record for the last 3 years shows no crashes and no convictions for moving violations in a CMV.

David B. Albers, Sr.

Mr. Albers, 38, has had complete loss of vision in his left eye since childhood. The best corrected visual acuity in his right eye is 20/20. Following an examination in 2010, his optometrist noted, “In my medical opinion, David has sufficient vision to perform the driving tasks required to operate a commercial vehicle.” Mr. Albers reported that he has driven straight trucks for 5½; years, accumulating 605,000 miles and tractor-trailer combinations for 5½; years, accumulating 605,000 miles. He holds a Class A CDL from Utah. His driving record for the last 3 years shows no crashes and no convictions for moving violations in a CMV.

Kurtis A. Anderson

Mr. Anderson, 37, has had complete loss of vision in his left eye since birth. The best corrected visual acuity in his right eye is 20/20. Following an examination in 2010, his optometrist noted, “In my opinion, Mr. Kurt Anderson has sufficient vision to perform the driving tasks to operate a commercial motor vehicle.” Mr. Anderson reported that he has driven straight trucks for 3 years, accumulating 78,000 miles. He holds a Class A CDL from South Dakota. His driving record for the last 3 years shows no crashes and no convictions for moving violations in a CMV.

Terry L. Anderson

Mr. Anderson, 43, had a tear in the macular of the retina in his left eye many years ago. Following an examination in 2010, his optometrist noted, “the best corrected visual acuity in his right eye is 20/20 and in his left eye, 20/80.” Mr. Anderson reported that he has driven straight trucks for 2 years, accumulating 40,000 miles. He holds a Class B CDL from Pennsylvania. His driving record for the last 3 years shows no crashes and one conviction for a moving violation in a CMV; failure to obey a traffic signal.

Grover H. Baelz

Mr. Baelz, 63, has had cataracts in both eyes since birth. The best corrected visual acuity in his right eye is 20/20 and in his left eye, count-finger vision only. Following an examination in 2010, his optometrist noted, “In summary, Mr. Baelz has a normal well functioning right eye with no detectable visual defects and in my opinion has sufficient vision abilities to operate a commercial vehicle.” Mr. Baelz reported that he has driven straight trucks for 42 years, accumulating 924,000 miles. He holds a Class C operator's license from Oregon. His driving record for the last 3 years shows no crashes and no convictions for moving violations in a CMV.

Sammy J. Barada

Mr. Barada, 60, has had complete loss of vision in his right eye since birth. The best corrected visual acuity in his left eye is 20/20. Following an examination in 2010, his optometrist noted, “In my opinion he has sufficient vision to perform the driving tasks required to operate a commercial vehicle.” Mr. Barada reported that he has driven straight trucks for 10 years, accumulating 950,000 miles and tractor-trailer combinations for 2 years, accumulating 15,000 miles. He holds a Class A CDL from Nebraska. His driving record for the last 3 years shows no crashes and no convictions for moving violations in a CMV.

Kenneth L. Bowers, Jr.

Mr. Bowers, 41, has had amblyopia in his left eye since birth. The best corrected visual acuity in his right eye is 20/40 and in his left eye, 20/80. Following an examination in 2010, his optometrist noted, “In my opinion, Mr. Bowers can safely perform tasks required to operate a motor vehicle.” Mr. Bowers reported that he has driven straight trucks for 25 years, accumulating 13,750 miles and tractor-trailer combinations for 7 years, accumulating 140,000 miles. He holds a Class A CDL from Minnesota. His driving record for the last 3 years shows no crashes and no convictions for moving violations in a CMV.

Timothy Bradford

Mr. Bradford, 55, has had amblyopia in his left eye since childhood. The best corrected visual acuity in his right eye is 20/20 and in his left eye, 20/60. Following an examination in 2010, his optometrist noted, “In my medical opinion, Mr. Timothy Bradford has sufficient vision to safely perform the driving tasks necessary to operate a commercial vehicle.” Mr. Bradford reported that he has driven straight trucks for 39 years, accumulating 780,000 miles and tractor-trailer combinations for 16 years, accumulating 16,000 miles and buses for 13 years, accumulating 130,000 miles. He holds a Class A CDL from Tennessee. His driving record for the last 3 years shows no crashes and no convictions for moving violations in a CMV.

Donald G. Brock, Jr.

Mr. Brock, 49, has had intermittent alternating extropia with mild strabismic amblyopia in his left eye since childhood. The best corrected visual acuity in his right eye is 20/20 and in his left eye, 20/20. Following an examination in 2010, his optometrist noted, “My opinion is that Mr. Brock is capable of safely operating a commercial vehicle and poses the same risk for accidents as someone with normal binocular function.” Mr. Brock reported that he has driven straight trucks for 1 year, accumulating 1,000 miles and tractor-trailer combinations for 18 years, accumulating 1 million miles. He holds a Class A CDL from North Carolina. His driving record for the last 3 years shows no crashes and no convictions for moving violations in a CMV.

Anthony D. Buck

Mr. Buck, 26, has had complete loss of vision in his right eye since 1997. The best corrected visual acuity in his right eye is no light perception, and in his left eye is 20/15. Following an examination in 2010, his optometrist noted, “It is my medical opinion that Anthony has sufficient vision to perform the driving tasks required to operate a commercial vehicle.”

Mr. Buck reported that he has driven tractor-trailer combinations for 7 years, accumulating 595,000 miles. He holds a Class A CDL from Texas. His driving record for the last 3 years shows no crashes and no convictions for moving violations in a CMV.

Cody W. Cook

Mr. Cook, 26, has had amblyopia in his right eye since birth. The best corrected visual acuity in his right eye is 20/400 and in his left eye, 20/20. Following an examination in 2010, his optometrist noted, “I feel Cody is capable of performing tasks to operate a commercial vehicle.” Mr. Cook reported that he has driven straight trucks for 9 years, accumulating 315,000 miles and tractor-trailer combinations for 9 years, accumulating 180,000 miles. He holds a Class D operator's license from Oklahoma. His driving record for the last 3 years shows no crashes and no convictions for moving violations in a CMV.

Marvin R. Daly

Mr. Daly, 45, has had a prosthetic left eye since childhood. The best corrected visual acuity in his right eye is 20/20. Following an examination in 2010, his optometrist noted, “In my opinion, Mr. Daly has sufficient vision to perform the driving tasks required to operate a commercial vehicle.” Mr. Daly reported that he has driven straight trucks for 1 year, accumulating 20,000 miles and tractor-trailer combinations for 1 year, accumulating 40,000 miles and buses for 7 years, accumulating 210,000 miles. He holds a Class A CDL from Florida. His driving record for the last 3 years shows no crashes and no convictions for moving violations in a CMV.

Douglas R. Duncan

Mr. Duncan, 58, has had a prosthetic left eye since 1983. The best corrected visual acuity in his right eye is 20/20. Following an examination in 2010, his ophthalmologist noted, “In my opinion, the patient should have sufficient vision to operate a commercial vehicle despite the fact that he is one-eyed.” Mr. Duncan reported that he has driven straight trucks for 12 years, accumulating 600,000 miles and tractor-trailer combinations for 24 years, accumulating 3 million miles. He holds a Class A CDL from Tennessee. His driving record for the last 3 years shows no crashes and no convictions for moving violations in a CMV.

Douglas K. Esp

Mr. Esp, 55, has had amblyopia in his right eye since birth. The best corrected visual acuity in his right eye is 20/200 and in his left eye, 20/20. Following an examination in 2010, his optometrist noted, “Mr. Esp performs well with his current visual status and should experience no visual deficiency while operating a commercial vehicle.” Mr. Esp reported that he has driven straight trucks for 30 years, accumulating 300,000 miles and tractor-trailer combinations for 30 years, accumulating 2.1 million miles. He holds a Class A CDL from Montana. His driving record for the last 3 years shows no crashes and no convictions for moving violations in a CMV.

Roger C. Evans, II

Mr. Evans, 62, has had amblyopia in his right eye since childhood. The best corrected visual acuity in his right eye is 20/70 and in his left eye, 20/20. Following an examination in 2010, his optometrist noted, “It is my medical opinion that Mr. Evans has sufficient vision to perform the driving tasks required to operate a commercial vehicle.” Mr. Evans reported that he has driven buses for 12 years, accumulating 564,000 miles. He holds a Class D operator's license from Wisconsin. His driving record for the last 3 years shows one crash and no convictions for moving violations in a CMV.

Jevont D. Fells

Mr. Fells, 39, has had keratoconus in his left eye since 1994. The best corrected visual acuity in his right eye is 20/20, and in his left eye, 20/80. Following an examination in 2010, his optometrist noted, “In my medical opinion, I hereby state that Mr. Fells is legal to drive with glasses under any conditions.” Mr. Fells reported that he has driven straight trucks for 10 years, accumulating 1 million miles and tractor-trailer combinations for 4 years, accumulating 250,000 miles. He holds a Class A operator's license from Alabama. His driving record for the last 3 years shows no crashes and no convictions for moving violations in a CMV.

Steven C. Fox

Mr. Fox, 47, has had amblyopia in his right eye since birth. The best corrected visual acuity in his right eye is count-finger vision only, and in his left eye, 20/20. Following an examination in 2010, his ophthalmologist noted, “In my medical opinion this patient has sufficient vision to perform the driving tasks to operate a commercial vehicle.” Mr. Fox reported that he has driven straight trucks for 9 years, accumulating 225,000 miles and tractor-trailer combinations for 9 years, accumulating 900,000 miles. He holds a Class A CDL from North Carolina. His driving record for the last 3 years shows no crashes and no convictions for moving violations in a CMV.

Scott C. Geiter

Mr. Geiter, 42, has had amblyopia in his left eye since childhood. The best corrected visual acuity in his right eye is 20/25 and in his left eye, count-finger vision. Following an examination in 2010, his optometrist noted, “Mr. Scott Geiter has sufficient vision to perform the driving task required to operate a commercial vehicle.” Mr. Geiter reported that he has driven straight trucks for 11 years, accumulating 880,000 miles. He holds a Class C operator's license from Pennsylvania. His driving record for the last 3 years shows no crashes and no convictions for moving violations in a CMV.

Gary A. Golson

Mr. Golson, 48, has a prosthetic left eye due to a motor vehicle accident that occurred twenty-five years ago. The visual acuity in his right eye is 20/20. Following an examination in 2010, his optometrist noted, “In my medical opinion, Mr. Golson has sufficient vision to perform the driving tasks required to operate a commercial vehicle.” Mr. Golson reported that he has driven straight trucks for 6 years, accumulating 172,368 miles and tractor-trailer combinations for 1 year, accumulating 10,000 miles. He holds a Class D operator's license from Alabama. His driving record for the last 3 years shows no crashes and no convictions for moving violations in a CMV.

Donald L. Hamrick

Mr. Hamrick, 44, has had amblyopia in his left eye since childhood. The best corrected visual acuity in his right eye is 20/20, and in his left eye, 20/100. Following an examination in 2010, his optometrist noted, “In my medical opinion, Don Hamrick has more than sufficient vision to perform the driving tasks required to operate a commercial vehicle.” Mr. Hamrick reported that he has driven tractor-trailer combinations for 14 years, accumulating 560,000 miles. He holds a Class A CDL from Kansas. His driving record for the last 3 years shows no crashes and no convictions for moving violations in a CMV.

Eugene W. Harnisch

Mr. Harnisch, 59, has had complete loss of vision in his right eye due to a traumatic injury in 1964. The best corrected visual acuity in his left eye is 20/20. Following an examination in 2010, his ophthalmologist noted, “While Eugene has suffered traumatic blindness of his right eye his visual field examination and function of his left eye is completely within normal limits and in my opinion should have sufficient vision for performing the tasks required to operate a commercial vehicle.” Mr. Harnisch reported that he has driven straight trucks for 33 years, accumulating 660,000 miles and tractor-trailer combinations for 5 years, accumulating 200,000 miles. He holds a Class A CDL from Wisconsin. His driving record for the last 3 years shows no crashes and no convictions for moving violations in a CMV.

Ronnie E. Henderson

Mr. Henderson, 64, has had loss of vision in his left eye since 2007. The best corrected visual acuity in his right eye is 20/20, and in his left eye, hand-motion vision only. Following an examination in 2010, his ophthalmologist noted, “I believe Mr. Henderson's visual function is adequate to operate any type of commercial vehicle.” Mr. Henderson reported that he has driven straight trucks for 43 years, accumulating 786,685 miles. He holds a Class A CDL from Virginia. His driving record for the last 3 years shows no crashes and no convictions for moving violations in a CMV.

Clinton L. Hines, Jr.

Mr. Hines, 48, has had an injury to his right eye since 1984. The best corrected visual acuity in his right eye is 20/60 and in his left eye, 20/20. Following an examination in 2010, his optometrist noted, “He currently has sufficient vision to operate a commercial vehicle.” Mr. Hines reported that he has driven straight trucks for 32 years, accumulating 160,000 miles. He holds a Class A CDL from North Carolina. His driving record for the last 3 years shows no crashes and no convictions for moving violations in a CMV.

Steve D. James

Mr. James, 55, has had amblyopia in his right eye since birth. The best corrected visual acuity in his right eye is 20/60 and in his left eye, 20/20. Following an examination in 2010, his optometrist noted, “In my opinion the patient does have stable visual acuity and sufficient vision to perform the driving tasks required to operate a commercial vehicle.” Mr. James reported that he has driven straight trucks for 3 years, accumulating 1.2 million miles and buses for 2 years, accumulating 17,332 miles. He holds a Class C operator's license from North Carolina. His driving record for the last 3 years shows one crash, for which he was not cited, and no convictions for moving violations in a CMV.

Matthew C. Kalebaugh

Mr. Kalebaugh, 51, has had macular scar in his right eye since 2005. The best corrected visual acuity in his right eye is 20/60 and in his left eye, 20/25. Following an examination in 2010, his optometrist noted, “It is my opinion Mr. Kalebaugh has adequate vision to operate a commercial vehicle and has learned to compensate for the vision loss in the right eye.” Mr. Kalebaugh reported that he has driven straight trucks for 32 years, accumulating 320,000 miles and tractor-trailer combinations for 28 years, accumulating 2.8 million miles. He holds a Class A CDL from Kansas. His driving record for the last 3 years shows no crashes and no convictions for moving violations in a CMV.

Keith A. Larson

Mr. Larson, 50, has had complete loss of vision in his left eye due to trauma 10 years ago. The visual acuity in his right eye is 20/20. Following an examination in 2010, his ophthalmologist noted, “He has sufficient vision to perform the driving tasks required to operate a commercial vehicle.” Mr. Larson reported that he has driven straight trucks for 20 years, accumulating 440,000 miles. He holds a Class D operator's license from Massachusetts. His driving record for the last 3 years shows no crashes and no convictions for moving violations in a CMV.

Brent E. Lewis

Mr. Lewis, 29, has had amblyopia in his right eye since childhood. The best corrected visual acuity in his right eye is 20/200 and in his left eye, 20/20. Following an examination in 2010, his optometrist noted, “I am of the opinion that Mr. Lewis sees and functions very adequately with respect to operating motor vehicles, and should be allowed to drive commercial vehicles.” Mr. Lewis reported that he has driven tractor-trailer combinations for 6 years, accumulating 120,000 miles. He holds a Class D operator's license from Mississippi. His driving record for the last 3 years shows no crashes and no convictions for moving violations in a CMV.

Timothy R. McCullough

Mr. McCullough, 46, has had complete loss of vision in his left eye since childhood. The best corrected visual acuity in his right eye is 20/20. Following an examination in 2010, his optometrist noted, “As stated in my earlier letter which you accidentally erased but I've enclosed a copy, I feel that Mr. McCullough has sufficient vision to safely operate a commercial vehicle, in my professional opinion.” Mr. McCullough reported that he has driven tractor-trailer combinations for 16 years, accumulating 1.7 million miles. He holds a Class A CDL from Florida. His driving record for the last 3 years shows no crashes and no convictions for moving violations in a CMV.

Marcus McMillin

Mr. McMillin, 39, has had esotropia in his right eye since birth. The best corrected visual acuity in his right eye is 20/50 and in his left eye, 20/20. Following an examination in 2010, his optometrist noted, “In my opinion this patient has sufficient vision to perform driving tasks required to operate a commercial vehicle.” Mr. McMillin reported that he has driven tractor-trailer combinations for 8 years, accumulating 1 million miles. He holds a Class A CDL from Florida. His driving record for the last 3 years shows no crashes and no convictions for moving violations in a CMV.

George C. Milks

Mr. Milks, 49, has had a cataract in his right eye since 1995. The best corrected visual acuity in his right eye is light perception only and in his left eye, 20/25. Following an examination in 2010, his optometrist noted, “In my medical opinion Mr. Milks has sufficient vision to operate a commercial vehicle.” Mr. Milks reported that he has driven straight trucks for 11 years, accumulating 99,000 miles. He holds a Class B CDL from New York. His driving record for the last 3 years shows one crash, for which he was not cited, and no convictions for moving violations in a CMV.

Daniel R. Murphy

Mr. Murphy, 46, has had complete loss of vision in his left eye since childhood. The visual acuity in his right eye is 20/20. Following an examination in 2010, his optometrist noted, “In my opinion, he has sufficient vision to perform driving tasks required to operate a commercial vehicle.” Mr. Lewis reported that he has driven buses for 9 years, accumulating 11,250 miles. He holds a Class B CDL from Wisconsin. His driving record for the last 3 years shows no crashes and no convictions for moving violations in a CMV.

Joseph M. Palmer

Mr. Palmer, 56, has had amblyopia in his right eye since childhood. The best corrected visual acuity in his right eye is 20/60 and in his left eye, 20/20. Following an examination in 2010, his optometrist noted, “Mr. Palmer has sufficient visual acuities and peripheral range of vision in both eyes to safely operate a commercial vehicle.” Mr. Palmer reported that he has driven straight trucks for 34 years, accumulating 595,000 miles. He holds a Class A CDL from Maine. His driving record for the last 3 years shows no crashes and no convictions for moving violations in a CMV.

Garrick D. Pitts

Mr. Pitts, 36, has had amblyopia in his right eye since childhood. The best corrected visual acuity in his right eye is 20/70 and in his left eye, 20/20. Following an examination in 2010, his optometrist noted, “Based upon my professional medical opinion and considering his driving record over the past several years, I feel Mr. Pitts has sufficient vision to operate a commercial motor vehicle.” Mr. Pitts reported that he has driven straight trucks for 9 years, accumulating 1 million miles. He holds a Class A CDL from Arkansas. His driving record for the last 3 years shows no crashes and no convictions for moving violations in a CMV.

Gary W. Robey

Mr. Robey, 67, has had macular degeneration in his right eye since 2006. The best corrected visual acuity in his right eye is 20/200 and in his left eye, 20/20. Following an examination in 2010, his optometrist noted, “Patient is able to operate a commercial vehicle from a vision perspective in my opinion.” Mr. Robey reported that he has driven tractor-trailer combinations for 40 years, accumulating 4 million miles. He holds a Class A CDL from Washington. His driving record for the last 3 years shows one crash, for which he was not cited, and no convictions for moving violations in a CMV.

Jonathan C. Rollings

Mr. Rollings, 35, has had a prosthetic left eye since he was the age of 15. The best corrected visual acuity in his right eye is 20/15. Following an examination in 2010, his optometrist noted, “Jon has sufficient vision to satisfy all of the requirements to operate a commercial vehicle.” Mr. Rollings reported that he has driven straight trucks for 12 years, accumulating 240,000 miles and tractor-trailer combinations for 12 years, accumulating 144,000. He holds a Class A CDL from Iowa. His driving record for the last 3 years shows no crashes and one conviction for a moving violation in a CMV. He exceeded the speed limit.

Preston S. Salisbury

Mr. Salisbury, 43, has had amblyopia in his right eye since birth. The best corrected visual acuity in his right eye is 20/200 and in his left eye, 20/20. Following an examination in 2010, his optometrist noted, “It is my professional opinion that Mr. Salisbury has sufficient vision to perform the driving tasks required to operate a commercial vehicle.” Mr. Salisbury reported that he has driven straight trucks for 15 years, accumulating 3,000 miles and tractor-trailer combinations for 6 years, accumulating 15,000 miles. He holds a Class A CDL from Montana. His driving record for the last 3 years shows no crashes and no convictions for moving violations in a CMV.

Victor M. Santana

Mr. Santana, 45, has had amblyopia in his right eye since childhood. The best corrected visual acuity in his right eye is 20/50 and in his left eye, 20/20. Following an examination in 2010, his optometrist noted, “My medical opinion, Mr. Victor Santana has sufficient vision to perform the driving tasks required to operate a commercial vehicle.” Mr. Santana reported that he has driven tractor-trailer combinations for 20½ years, accumulating 3 million miles. He holds a Class A CDL from California. His driving record for the last 3 years shows no crashes and one conviction for a moving violation in a CMV. He exceeded the speed limit by 9 mph.

Kevin W. Schaffer

Mr. Schaffer, 48, has had retinal detachment in his left eye since the age of 24. The best corrected visual acuity in his right eye is 20/15 and in his left eye, 20/400. Following an examination in 2010, his optometrist noted, “In my medical opinion Kevin has sufficient vision to perform the driving tasks required to operate a commercial vehicle.” Mr. Schaffer reported that he has driven straight trucks for 32 years, accumulating 400,000 miles and tractor-trailer combinations for 10 years, accumulating 75,000. He holds a Class A CDL from Illinois. His driving record for the last 3 years shows no crashes and no convictions for moving violations in a CMV.

Gerald E. Skalitzky

Mr. Skalitzky, 68, has had amblyopia in his right eye since birth. The best corrected visual acuity in his right eye is 20/70 and in his left eye, 20/20. Following an examination in 2010, his optometrist noted, “I hereby certify that Gerald Skalitzky has sufficient vision to perform all commercial vehicle driving tasks.” Mr. Skalitzky reported that he has driven straight trucks for 40 years, accumulating 1.1 million miles and tractor-trailer combinations for 2 years, accumulating 100,000 miles. He holds a Class D operator's license from Wisconsin. His driving record for the last 3 years shows one crash, for which he was cited, and two convictions for moving violations in a CMV. In the first incident, he failed to obey a traffic signal. In the second incident, he was following another vehicle too closely.

Allen W. Smith

Mr. Smith, 36, has had corneal scarring in his left eye since birth. The visual acuity in his right eye is 20/20 and in his left eye, no light perception. Following an examination in 2010, his optometrist noted, “In my opinion, Mr. Smith has sufficient vision to operate a commercial vehicle.” Mr. Smith reported that he has driven straight trucks for 12 years, accumulating 300,000 miles and tractor-trailer combinations for 2 years, accumulating 30,000 miles. He holds a Class A CDL from Kansas. His driving record for the last 3 years shows no crashes and no convictions for moving violations in a CMV.

Robert B. Steinmetz

Mr. Steinmetz, 57, has had complete loss of vision in his right eye since 1995. The best corrected visual acuity in his left eye is 20/20. Following an examination in 2010, his optometrist noted, “In my opinion, you have sufficient vision to perform driving tasks required to operate a commercial vehicle.” Mr. Steinmetz reported that he has driven straight trucks for 30 years, accumulating 150,000 miles and tractor-trailer combinations for 28 years, accumulating 280,000 miles. He holds a Class A CDL from Oregon. His driving record for the last 3 years shows no crashes and no convictions for moving violations in a CMV.

George A. Teti

Mr. Teti, 69, has had a large posterior staphyloma in his right eye since childhood. The best corrected visual acuity in his right eye is 20/400 and in his left eye, 20/25. Following an examination in 2010, his optometrist noted, “This letter certifies that Mr. Teti meets the visual requirements to perform all driving tasks needed to operate a commercial vehicle.” Mr. Teti reported that he has driven straight trucks for 2 years, accumulating 24,000 miles and buses for 24 years, accumulating 240,000 miles. He holds a Class B CDL from Florida. His driving record for the last 3 years shows no crashes and no convictions for moving violations in a CMV.

Calvin J. Wallace, II

Mr. Wallace, 56, has had macular scarring in his left eye since 2000. The best corrected visual acuity in his right eye is 20/20 and in his left eye, hand-motion vision only. Following an examination in 2010, his ophthalmologist noted, “In my opinion he has sufficient vision to perform as a commercial driver.” Mr. Wallace reported that he has driven straight trucks for 10 years, accumulating 1.2 million miles, and tractor-trailer combinations for 15 years, accumulating 2.7 million miles. He holds a Class A CDL from Nevada. His driving record for the last 3 years shows no crashes and no convictions for moving violations in a CMV.

David W. Ward

Mr. Ward, 49, has had a prosthetic left eye since 1981. The best corrected visual acuity in his right eye is 20/20. Following an examination in 2010, his optometrist noted, “It is my medical opinion that Mr. Ward has sufficient vision to perform the driving tasks required to operate a commercial vehicle.” Mr. Ward reported that he has driven tractor-trailer combinations for 5 years, accumulating 350,000 miles. He holds a Class A CDL from North Carolina. His driving record for the last 3 years shows no crashes and no convictions for moving violations in a CMV.

Ralph W. York

Mr. York, 50, has had amblyopia in his left eye since childhood. The best corrected visual acuity in his right eye is 20/20 and in his left eye, 20/400. Following an examination in 2010, his optometrist noted, “In my professional opinion, Ralph York has sufficient vision to perform driving tasks required to operate a commercial vehicle.” Mr. York reported that he has driven tractor-trailer combinations for 31 years, accumulating 4.6 million miles. He holds a Class A CDL from New Mexico. His driving record for the last 3 years shows no crashes and one conviction for a moving violation in a CMV. He exceeded the speed limit by 7 mph.

Richard L. Zacher

Mr. Zacher, 53, has had amblyopia in his right eye since birth. The best corrected visual acuity in his right eye is 20/80 and in his left eye, 20/20. Following an examination in 2010, his optometrist noted, “And yes, both Dr. Reski and I do agree and believe that Mr. Zacher has sufficient vision to perform driving tasks required to operate a commercial vehicle.” Mr. Zacher reported that he has driven straight trucks for 14 years, accumulation 499,996 miles and tractor-trailer combinations for 21 years, accumulating 1.4 million miles. He holds a Class A CDL from Oregon. His driving record for the last 3 years shows no crashes and no convictions for moving violations in a CMV.

Request for Comments

In accordance with 49 U.S.C. 31136(e) and 31315, FMCSA requests public comment from all interested persons on the exemption petitions described in this notice. The Agency will consider all comments received before the close of business December 27, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: November 10, 2010.
Larry W. Minor,
Associate Administrator, Office of Policy.

[FR Doc. 2010-29797 Filed 11-24-10; 8:45 am]

BILLING CODE 4910-EX-P